DEPARTMENT OF THE INTERIOR

Fish and Wildlife Service

Environmental Assessment for a Major Amendment to the County of San Diego Subarea Plan of the Multiple Species Conservation Program Plan, California

AGENCY: Fish and Wildlife Service, Interior.

ACTION: Notice of availability.

SUMMARY: The County of San Diego (County) has requested a major amendment to its Subarea Plan of the Multiple Species Conservation Program (MSCP) and has forwarded this request to the Fish and Wildlife Service (Service) for approval. Our proposed action would include the Cielo Ridge and Rancho de Lusardi properties into the MSCP for incidental take authorization (including harm, injury and harassment), if necessary, of species listed as threatened or endangered pursuant to the Endangered Species Act of 1973, as amended. Take authorization may be needed during the development of homes on these properties should unlisted species covered by the MSCP become listed during the 50-year term of the permit. The County's existing incidental take permit (PRT-840414) does not apply to these amendment areas until the amendment process has been completed. These amendment lands include key core habitat areas within the County's jurisdiction that are vital to the continued existence of many of the species covered for take authorization under the County's permit. Upon completion of the amendment process, Cielo Ridge and Rancho Cielo de Lusardi would be annexed into the County's Subarea Plan, and if necessary, these properties would then be afforded take authorization pursuant to the County's permit and implementing agreement (legal contact).

This notice announces the availability of the Environmental Assessment (EA), dated January, 2001, and the Major Amendment proposed by the County. These documents describe the proposed action and possible alternatives.

DATES: Written comments should be received by the Service on or before October 9, 2001.

ADDRESSES: Comments should be addressed to Mr. Jim Bartel, Field Supervisor, Carlsbad Fish and Wildlife Office, 2730 Loker Avenue West, Carlsbad, California 92008. Written comments may be sent by facsimile to (760) 431-9618.

FOR FURTHER INFORMATION CONTACT: Ms. Patrice Ashfield, Fish and Wildlife Biologist, [see ADDRESSES]; telephone (760) 431-9440.

SUPPLEMENTARY INFORMATION:

Document Availability

Individuals interested in obtaining copies of the Proposed Major Amendment and Environmental Assessment for review should immediately contact the aforementioned office [see ADDRESSES]. Documents will also be available for public inspection by appointment during normal business hours (8 a.m. to 12 p.m. and 1 p.m. to 5 p.m.) Monday through Friday at the above address.

Background

Section 9 of the Endangered Species Act and Federal regulation prohibit the “taking” of a species listed as endangered or threatened. The term “take” means to harass, harm, pursue, hunt, shoot, wound, kill, capture or collect listed wildlife, or attempt to engage in such conduct. Harm includes habitat modification that kills or injures wildlife by significantly impairing essential behavioral patterns, including breeding, feeding, or sheltering. Under limited circumstances, the Service may issue permits for take of listed species that is incidental to, and not the purpose of, otherwise lawful activities. Regulations governing permits for threatened and endangered species are found in 50 CFR 17.32 and 50 CFR 17.22.

When the County completed its Subarea Plan of the MSCP, the status of several sites within the South County and Lake Hodges segments was not resolved, and these lands were designated as major or minor amendment areas. The County's take authorization does not apply to these amendment areas until the amendment process has been completed.

The County has requested a major amendment to include Cielo Ridge and Rancho Cielo de Lusardi properties into its Subarea Plan of the MSCP for incidental take authorization of species, should it be needed, during development of 11 Cielo Ridge homes and 13 Rancho Cielo de Lusardi homes. These properties are located north of the Del Dios Highway in the Santa Fe Valley, County of San Diego, California. Lands designated as major amendment areas include several properties that did not initially participate in the MSCP as the regional habitat conservation plan was being formulated. The inclusion of the proposed housing subdivisions, Cielo Ridge and Rancho Cielo de Lusardi, into the MSCP County Subarea Plan would incorporate these projects into the County of San Diego's subregional planning efforts. To this end, these proposed subdivisions have been reviewed under the County of San Diego's Biological Mitigation Ordinance and the County Subarea Plan for the MSCP and have been found by the County to be in conformance with relevant criteria and regulations.

These amendment lands include key core habitat areas within the County's jurisdiction that are vital to the continued existence of many of the species included on the County's permit. A request for a major amendment area must be processed by the Service and the California Department of Fish and Game Agencies in conformity with all applicable laws and regulations (including National Environmental Policy Act, California Environmental Quality Act, and the Endangered Species Act). Upon completion of the amendment process, Cielo Ridge and Rancho Cielo de Lusardi would be annexed into the County's Subarea Plan, and if necessary, these properties would then be afforded take authorization pursuant to the County's permit and implementing agreement.

Together Cielo Ridge and Rancho Cielo de Lusardi properties would add 87.5 acres of land into the San Diego County MSCP Subarea Plan. Approximately 36.4 acres of habitat would be impacted by the construction of 24 homes, including 30.2 acres of southern mixed chaparral, 5.3 acres of disturbed habitat, 0.1 acre of non-native grassland and 0.8 acre of eucalyptus woodland. No state or federally threatened or endangered species have been identified onsite; however, unlisted rare species occur onsite that could be listed during the 50-year term of the permit. Proposed mitigation to offset project impacts include 41.2 acres of dedicated open space, along with 10.0 acres of open space to be contained within the proposed housing lots for a total of 51.2 acres of permanent open space dedicated to the County of San Diego.

The inclusion of 51.2 acres of open space would enhance the regional preserve in this area by creating a corridor at the southern portion of the proposed residential development which extends southward to the San Dieguito River. The two sites are predominantly covered with mixed chaparral vegetation with several sensitive plant and animal species, including wart-stemmed ceanothus (Ceanothus verrucosus) and ashy spike-moss (Selaginella cinerascens). Proposed mitigation measures include onsite preservation of 71 percent of the habitat on Cielo Ridge and 45 percent of the habitat on Rancho Cielo de Lusardi. Approximately 81 percent of the wart-stemmed ceanothus and 50 percent of the ashy spike-moss populations would be preserved within the proposed open space easements.

An addendum to the previously certified Environmental Impact Report/Environmental Impact Statement has been prepared in accordance with California Environmental Quality Act Guidelines Section 15164. The County of San Diego has determined that the proposed amendment is in conformance with the California Environmental Quality Act, the MSCP Plan, and the Biological Mitigation Ordinance.

Alternatives to the Service's proposed action include the Preferred Project Alternative which would include Cielo Ridge and Rancho Cielo de Lusardi into the MSCP and result in construction of 27 homes on 87.55 acres. The total acreage of open space from both properties under this alternative would be 48.9 acres. The No Action Alternative would result in no development of either property.

This notice is provided pursuant to section 10(a) of the Endangered Species Act and the National Environmental Policy Act of 1969 regulations (40 CFR 1506.6). All comments received, including names and addresses, will become part of the official administrative record and may be made available to the public. We will evaluate the proposed amendment, associated documents, and submitted comments to determine whether the proposed amendment meets the requirements of the National Environmental Policy Act regulations and section 10(a) of the Endangered Species Act. If it is determined that the requirements are met, the County Subarea Plan of the MSCP Plan will be amended to include the Cielo Ridge and Rancho Cielo de Lusardi subdivisions. We will make a final decision no sooner than 30 days from the date of publication of this notice.

Dated: August 21, 2001.
Daniel S. Walsworth,
Acting Deputy Manager, California/Nevada Operations Office, Fish and Wildlife Service, Sacramento, California.

[FR Doc. 01-22505 Filed 9-6-01; 8:45 am]

BILLING CODE 4310-55-P